DEPARTMENT OF TRANSPORTATION

Federal Aviation Administration

Notice of Intent To Rule on Application 01-05-C-00-ABE To Impose and Use Revenue From a Passenger Facility Charge (PFC) at the Lehigh Valley International Airport, Allentown, PA

AGENCY: Federal Aviation Administration (FAA), DOT.

ACTION: Notice of intent to rule on application.

SUMMARY: The FAA proposes to rule and invites public comment on the application to impose and use revenue from a PFC at the Lehigh Valley International airport under the provisions of the Aviation Safety and Capacity Expansion Act of 1990 (Title IX of the Omnibus Budget Reconciliation Act of 1990) (Public Law 101-508) and Part 158 of the Federal Aviation Regulations (14 CFR Part 158).

DATES: Comments must be received on or before March 19, 2001.

ADDRESSES: Comments on this application may be mailed or delivered in triplicate to the FAA at the following address: Harrisburg Airports District Office, 3911 Hartzdale Drive, Camp Hill, PA 17011.

In addition, one copy of any comments submitted to the FAA must be mailed or delivered to Mr. George Doughty, Airport Director, Lehigh Valley International Airport, at the following address: 3311 Airport Road, Allentown, PA 18103.

Air carriers and foreign air carriers may submit copies of written comments previously provided to the Lehigh-Northampton Airport Authority under section 158.23 of Part 158.

FOR FURTHER INFORMATION CONTACT: Patrick J. Sullivan, Team Leader, Airports District Office, 3911 Hartzdale Drive, Camp Hill, Pennsylvania, (717) 730-2832. The application may be reviewed in person at the same location.

SUPPLEMENTARY INFORMATION: The FAA proposes to rule and invites public comment on the application to impose and use the revenue from a PFC at the Lehigh Valley International Airport under the provisions of the Aviation Safety and Capacity Expansion Act of 1990 (Title IX of the Omnibus Budget Reconciliation Act of 1990) (Public Law 101-508) and Part 158 of the Federal Aviation Regulations (14 CFR Part 158).

On February 8, 2001, the FAA determined that the application to impose and use the revenue from a PFC submitted by the Lehigh-Northampton Airport Authority was substantially complete within the requirements of section 158.25 of Part 158. The FAA will approve or disapprove the application, in whole or in part, no later than May 10, 2001.

The following is a brief overview of the application.

PFC Application No.: 01-05-C-00-ABE.

Level of the Proposed PFC: $3.00.

Proposed Charge Effective Date: June 1, 2001.

Proposed Charge Expiration Date: June 1, 2003.

Total Estimated PFC Revenue: $2,807,573.

Brief Description of Proposed Project(s):

—Land Acquisition R/W 24—Noise-Toye Settlement

—Land Acquisition R/W 24 RPZ—Piechota, Stahley, FeastaPizza, Fegley Electronics

—Land Acquisition R/W 13 Approach—Sovereign Bank/ABE Industrial

—Land Acquisition R/W 24 Noise—Mobile Homes

—Land Acquisition R/W 13 Approach—Willow Brook/Willow Brook East

—Land Acquisition R/W 24 RPZ—Dr. Prah and Partridge Peartree

—Install Mimic Panel

—Purchase ARFF Vehicle

—Conduct Master Plan

—Rehabilitate R/W 6-24

—Construct Air Cargo Apron

—Install Noise Monitoring System

—Conduct Part 150 Study

—Construct RON Apron

Class or classes of air carriers which the public agency has requested not be required to collect PFCs: Air Taxi/Commercial Operators (ATCO) filing form 18-31.

Any person my inspect the application in person at the FAA office listed above under FOR FURTHER INFORMATION CONTACT and at the FAA regional airports office located at: 1 Aviation Plaza, Airports Division, AEA-610, Jamaica, New York, 11434-4809.

In addition, any person may, upon request, inspect the application, notice and other documents germane to the application in person at the offices of the Lehigh-Northampton Airport Authority.

Issued in Camp Hill, Pennsylvania, on February 8, 2001.
Sharon A. Daboin,
Manager, Harrisburg ADO, Eastern Region.

[FR Doc. 01-3900 Filed 2-14-01; 8:45 am]

BILLING CODE 4910-13-M